DEPARTMENT OF COMMERCE

National Oceanic and Atmospheric Administration

[RTID 0648-XF257]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's Summer Flounder, Scup, and Black Sea Bass Monitoring Committee will hold a public meeting with the Atlantic States Marine Fisheries Commission's Summer Flounder, Scup, and Black Sea Bass Technical Committee.

DATES: The meeting will be held on Tuesday, November 18, 2025, from 10 a.m.-4 p.m. For agenda details, see SUPPLEMENTARY INFORMATION.

ADDRESSES: The meeting will be held via webinar. Connection information will be posted to the Council's calendar prior to the meeting at https://www.mafmc.org.

Council address: Mid-Atlantic Fishery Management Council, 800 N State Street, Suite 201, Dover, DE 19901; telephone: (302) 674-2331; https://www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Summer Flounder, Scup, and Black Sea Bass Monitoring Committee will meet with the Atlantic States Marine Fisheries Commission's Summer Flounder, Scup, and Black Sea Bass Technical Committee via webinar on Tuesday, November 18, 2025, from 10 a.m. until 4 p.m. During this meeting, the Monitoring and Technical Committee will: (1) review recent recreational fishery information for all three species, including Recreation Demand Model predictions of 2026 harvest under 2025 measures; (2) determine the percent change in expected harvest required for each species for 2026-2027 under the Percent Change Approach; (3) for summer flounder and black sea bass, recommend use of coastwide measures or conservation equivalency and associated measures for 2026-2027 (i.e., preferred or non-preferred coastwide measures; precautionary default measures); (4) for scup, recommend 2026-2027 Federal waters recreational measures; and (5) discuss considerations for adjustments to state measures as needed.

The meeting is physically accessible to people with disabilities. Requests for sign language interpretation or other auxiliary aids should be directed to Shelley Spedden, (302) 526-5251 at least 5 days prior to the meeting date.

Authority: 16 U.S.C. 1801 et seq.

Dated: November 13, 2025.
Rey Israel Marquez,
Acting Deputy Director, Office of Sustainable Fisheries, National Marine Fisheries Service.

[FR Doc. 2025-20080 Filed 11-17-25; 8:45 am]

BILLING CODE 3510-22-P